DEPARTMENT OF DEFENSE

Office of the Secretary

32 CFR Part 286

[Docket ID: DOD-2019-OS-0069]

RIN 0790-AK54

DoD Freedom of Information Act (FOIA) Program; Amendment; Correction

AGENCY: Office of the Assistant to the Secretary of Defense for Privacy, Civil Liberties, and Transparency (OATSD(PCLT)), Department of Defense (DoD).

ACTION: Final rule; correcting amendment.

SUMMARY: The DoD is correcting a final rule that published in the Federal Register on December 5, 2023. The rule finalized amendments to its Freedom of Information Act (FOIA) regulation to update organizational names, add additional FOIA Requester Service Centers, and adopt the standards in the Department of Justice's Template for Agency FOIA Regulations noting the decision to participate in FOIA alternative dispute resolution services is voluntary on the part of the requester and DoD.

DATES: This final rule correction is effective January 26, 2024.

FOR FURTHER INFORMATION CONTACT: Toni Fuentes at 571-372-0462.

SUPPLEMENTARY INFORMATION: Subsequent to the publication of the final rule on December 5, 2023 (88 FR 84236-84238), it was discovered that part of an organization's title was missing in one of the amendments to paragraph (a) of § 286.3. This document corrects the Code of Federal Regulations to add the missing part of the organization's title.

List of Subjects in 32 CFR Part 286

Freedom of information.

Accordingly, the Department of Defense amends 32 CFR part 286 by making the following correcting amendment:

PART 286—DOD FREEDOM OF INFORMATION ACT (FOIA) PROGRAM

1. The authority citation for part 286 continues to read as follows:

Authority: 5 U.S.C. 552.

§ 286.3 [Amended]

2. In § 286.3, revise paragraph (a) by adding the word “Defense” before the words “Counterintelligence and Security Agency”.

Dated: January 22, 2024.
Aaron T. Siegel,
Alternate OSD Federal Register Liaison Officer, Department of Defense.

[FR Doc. 2024-01491 Filed 1-25-24; 8:45 am]

BILLING CODE 6001-FR-P